NUCLEAR REGULATORY COMMISSION

[Docket No. 50-293]

Entergy Nuclear Generation Company; Pilgrim Nuclear Power Station Environmental Assessment and Finding of No Significant Impact

The U.S. Nuclear Regulatory Commission (NRC) is considering issuance of an exemption for Facility Operating License No. DPR-35, issued to Entergy Nuclear Generation Company (Entergy/the licensee), for operation of Pilgrim Nuclear Power Station, (Pilgrim), located in Plymouth County, Massachusetts.

Environmental Assessment

Identification of the Proposed Action

The proposed action would exempt the licensee from the requirements of 10 CFR Part 50, Appendix E, Item IV.F.2.c regarding conduct of a full-participation exercise of the offsite emergency plan biennially. Under the proposed exemption, the licensee would reschedule the Federally-observed full-participation emergency exercise from December 2001 to May 2002 and all future Nuclear Regulatory Commission (NRC)—and Federal Emergency Management Agency (FEMA)—evaluated exercises would occur biennially from the year 2002.

The proposed action is in accordance with the licensee's application for exemption dated July 30, 1999, as supplemented on September 23, 1999.

The Need for the Proposed Action

Title 10 of the Code of Federal Regulation, (10 CFR) Part 50, Appendix E, Item IV.F.2.c requires each licensee at each site to conduct an exercise of its offsite emergency plan biennially. The NRC and FEMA observe these exercises and evaluate the performance of the licensee, State, and local authorities having a role under the emergency plan.

The licensee would be required to conduct an exercise of its onsite and offsite emergency plans in December 2001, which is at the end of the required interval. To support the efficient and effective use of Federal resources, as discussed during the annual NRC Region I and FEMA (Regions I, II, and III) exercise scheduling meeting held in White Plains, New York, in December 1998, the planned December 2001 exercise for Pilgrim was shifted to May 2002, which is beyond the required interval.

Environmental Impacts of the Proposed Action

The Commission has completed its evaluation of the proposed action and concludes that the proposed action involves an administrative activity (a schedular change in conducting an exercise) unrelated to plant operations.

The proposed action will not significantly increase the probability or consequences of accidents, no changes are being made in the types of any effluents that may be released off site, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the “Final Environmental Statement Related to the Operation of Pilgrim Nuclear Power Station, Boston Edison Company,” dated May 1972 .

Agencies and Persons Consulted

In accordance with its stated policy, on August 5, 1999, the staff consulted with the Massachusetts State official, Mr. James Muckerhide of the Massachusetts Emergency Management Agency, regarding the environmental impact of the proposed action. The State official had no comments. In addition, staff members of NRC Region I and FEMA were contacted by phone and provided favorable recommendations to approve the requested exemption.

Finding of No Significant Impact

On the basis of the environmental assessment, the NRC concludes that the proposed action will not have a significant effect on the quality of the human environment. Accordingly, the NRC has determined not to prepare an environmental impact statement for the proposed action.

For further details with respect to the proposed action, see the licensee's letter dated July 30, 1999, as supplemented on September 23, 1999, which is available for public inspection at the Commission's Public Document Room, The Gelman Building, 2120 L Street, NW., Washington, DC. Publically available records will be accessible electronically from the ADAMS Public Library component on the NRC Web site, http://www.nrc.gov (The Electronic Reading Room).

Dated at Rockville, Maryland, this 24 day of March 2000.
For the Nuclear Regulatory Commission.
Alan B. Wang,
Project Manager, Section 2, Project Directorate I, Division of Licensing Project Management, Office of Nuclear Reactor Regulation.

[FR Doc. 00-7829 Filed 3-29-00; 8:45 am]

BILLING CODE 7590-01-P